DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 8W-25A, Rockville, Maryland 20857; 1-800-338-2382, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on October 1, 2023, through October 31, 2023. This list provides the name of the petitioner, city, and state of vaccination (if unknown then the city and state of the person or attorney filing the claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the United States Court of Federal Claims at the address listed above (under the heading For Further Information Contact), with a copy to HRSA addressed to Director, Division of Injury Compensation Programs, Health Systems Bureau, 5600 Fishers Lane, 8W-25A, Rockville, Maryland 20857. The Court's caption (Petitioner's Name v. Secretary of HHS) and the docket number assigned to the petition should be used as the caption for the written submission. Chapter 35 of Title 44, United States Code, related to paperwork reduction, does not apply to information required for purposes of carrying out the Program.

Carole Johnson,
Administrator.

List of Petitions Filed

1. Patrick Taylor, Avon, Connecticut, Court of Federal Claims No: 23-1694V

2. Linda Seaborg, Elk Grove Village, Illinois, Court of Federal Claims No: 23-1695V

3. Brian O'Sullivan, Denver, Colorado, Court of Federal Claims No: 23-1696V

4. Cassidy Vibe, Marysville, Washington, Court of Federal Claims No: 23-1697V

5. Susan York, Casco, Maine, Court of Federal Claims No: 23-1698V

6. Mary Stockwell, Lebanon, Oregon, Court of Federal Claims No: 23-1699V

7. Wilbur Schmiesing, Anna, Ohio, Court of Federal Claims No: 23-1700V

8. John Southworth, Mendon, Vermont, Court of Federal Claims No: 23-1702V

9. David Taylor, Queens, New York, Court of Federal Claims No: 23-1703V

10. Kristen Rosati, Flemington, New Jersey, Court of Federal Claims No: 23-1704V

11. Jewel Wren, Phoenix, Arizona, Court of Federal Claims No: 23-1705V

12. Ljubica Nikolic, Beachwood, Ohio, Court of Federal Claims No: 23-1706V

13. Charles Hawkins, Ellicott City, Maryland, Court of Federal Claims No: 23-1707V

14. Rose Uribe, Washington, District of Columbia, Court of Federal Claims No: 23-1708V

15. Pernell Herr, Rehoboth Beach, Delaware, Court of Federal Claims No: 23-1709V

16. Jon-Paul Correira, Raynham, Massachusetts, Court of Federal Claims No: 23-1713V

17. Timothy Brown, Boston, Massachusetts, Court of Federal Claims No: 23-1714V

18. Govind Balladin, Brooklyn, New York, Court of Federal Claims No: 23-1715V

19. Sandra Yadira Camacho Cazarez, San Diego, Colorado, Court of Federal Claims No: 23-1716V

20. Veronica Platt, Largo, Florida, Court of Federal Claims No: 23-1718V

21. David Molter, Woodville, Ohio, Court of Federal Claims No: 23-1719V

22. Guzal Astanova on behalf of G. R., Philadelphia, Pennsylvania, Court of Federal Claims No: 23-1720V

23. Geraldine Reed, Decatur, Georgia, Court of Federal Claims No: 23-1722V

24. Sara Gaddy, San Angelo, Texas, Court of Federal Claims No: 23-1723V

25. Jenna Johnston, Hillsboro, Oregon, Court of Federal Claims No: 23-1724V

26. Brittany Ehlinger, Norwich, New York, Court of Federal Claims No: 23-1726V

27. Robbie Schaefer, Boston, Massachusetts, Court of Federal Claims No: 23-1727V

28. Honorata Lee, Fairbanks, Alaska, Court of Federal Claims No: 23-1730V

29. Doyle Manning, Kennesaw, Georgia, Court of Federal Claims No: 23-1731V

30. Julita Liminski, Belchertown, Massachusetts, Court of Federal Claims No: 23-1733V

31. Debra Rosado-Bohac, Yorktown, Virginia, Court of Federal Claims No: 23-1734V

32. Wafah Musaid, Amherst, New York, Court of Federal Claims No: 23-1735V

33. Susan Davis, Crosby, Texas, Court of Federal Claims No: 23-1736V

34. Nevonia Gurley, Mundelein, Illinois, Court of Federal Claims No: 23-1737V

35. Carina Phillips, Evansville, Indiana, Court of Federal Claims No: 23-1739V

36. April Cirincione, Canton, Georgia, Court of Federal Claims No: 23-1741V

37. Melissa Pike and Nick Kendall on behalf of S. K., Deceased, Phoenix, Arizona, Court of Federal Claims No: 23-1746V

38. William Drew, Englewood, New Jersey, Court of Federal Claims No: 23-1747V

39. Ann Maloney, Shoreview, Minnesota, Court of Federal Claims No: 23-1748V

40. Elizabeth Jackman, Birmingham, Alabama, Court of Federal Claims No: 23-1749V

41. Erica Ramsey, North Branch, Michigan, Court of Federal Claims No: 23-1750V

42. Erik Ossenfort, Rensselaer, New York, Court of Federal Claims No: 23-1751V

43. Susan Wilcox, Redfield, South Dakota, Court of Federal Claims No: 23-1752V

44. Tyler Harvie, Great Falls, Montana, Court of Federal Claims No: 23-1753V

45. Muge Ozhabes, San Mateo, California, Court of Federal Claims No: 23-1755V

46. Emily Napoli, Merced, California, Court of Federal Claims No: 23-1757V

47. Angela Wilder, Englewood, New Jersey, Court of Federal Claims No: 23-1758V

48. Sheila Gonzalez on behalf of E. M., Helotes, Texas, Court of Federal Claims No: 23-1759V

49. Richmond Hicks, Corpus Christi, Texas, Court of Federal Claims No: 23-1761V

50. Richard Thornburg and Renata Thornburg on behalf of K. T., Randolph, New Jersey, Court of Federal Claims No: 23-1762V

51. Rita Lewis, Kansas City, Kansas, Court of Federal Claims No: 23-1763V

52. Christine Harold, Annandale, Virginia, Court of Federal Claims No: 23-1764V

53. Jonathon Lee Jordan, Simpsonville, South Carolina, Court of Federal Claims No: 23-1765V

54. Frances Montgomery on behalf of E. M., Phoenix, Arizona, Court of Federal Claims No: 23-1766V

55. Sandra Maschmeyer, Flossmoor, Illinois, Court of Federal Claims No: 23-1767V

56. Irina Ioffe, Mequon, Wisconsin, Court of Federal Claims No: 23-1768V

57. Michael Francis, Staten Island, New York, Court of Federal Claims No: 23-1769V

58. Michelle Keith, Sarasota, Florida, Court of Federal Claims No: 23-1771V

59. Joy Yang, Durham, North Carolina, Court of Federal Claims No: 23-1772V

60. Carol French, Orange Park, Florida, Court of Federal Claims No: 23-1773V

61. Teresa Hawkins, Richmond, Virginia, Court of Federal Claims No: 23-1776V

62. Travis Halliburton, Salt Lake City, Utah, Court of Federal Claims No: 23-1777V

63. Lisa Kennedy, Columbus, Georgia, Court of Federal Claims No: 23-1778V

64. Megan Peterson, Omaha, Nebraska, Court of Federal Claims No: 23-1779V

65. Toni Ochoa, Mesa, Arizona, Court of Federal Claims No: 23-1780V

66. Iris Tol, Sherman, Texas, Court of Federal Claims No: 23-1781V

67. Ziyad N. Omar on behalf of M. Z. O., Buffalo, New York, Court of Federal Claims No: 23-1782V

68. Raven Lane-Lee on behalf of A. W., Kenner, Louisiana, Court of Federal Claims No: 23-1783V

69. Robert Newell, Cranston, Rhode Island, Court of Federal Claims No: 23-1784V

70. Brooke Young on behalf of L. M., Dewitt, Arkansas, Court of Federal Claims No: 23-1785V

71. Jeremy Myrick, Sedro-Wooley, Washington, Court of Federal Claims No: 23-1786V

72. Ashley Raponi, Ithaca, New York, Court of Federal Claims No: 23-1790V

73. Christie Trahan, Lafayette, Louisiana, Court of Federal Claims No: 23-1791V

74. Christine Lima, Englewood, New Jersey, Court of Federal Claims No: 23-1793V

75. Tracey Johnson Patania, Metairie, Louisiana, Court of Federal Claims No: 23-1794V

76. Kelli A. Dubay, Seattle, Washington, Court of Federal Claims No: 23-1796V

77. Ricardo Bush, Hazel Park, Michigan, Court of Federal Claims No: 23-1798V

78. John S. DeVivi, Franklin, Virginia, Court of Federal Claims No: 23-1799V

79. Duane Torkelson, Schaumburg, Illinois, Court of Federal Claims No: 23-1801V

80. Tala Altaji Alfarouki, Lincoln, Nebraska, Court of Federal Claims No: 23-1803V

81. Daniel Thomas Romo, Pico Rivera, California, Court of Federal Claims No: 23-1804V

82. Garrett Dixon, Las Vegas, Nevada, Court of Federal Claims No: 23-1807V

83. Kendra Graves, Damariscotta, Maine, Court of Federal Claims No: 23-1808V

84. Rebecca Dryer-Minnerly, Philadelphia, Pennsylvania, Court of Federal Claims No: 23-1809V

85. Kristin Matsuda on behalf of M. M., Phoenix, Arizona, Court of Federal Claims No: 23-1810V

86. Lynn White, Cedar City, Utah, Court of Federal Claims No: 23-1812V

87. Stephanie Coles, Leonard, Maryland, Court of Federal Claims No: 23-1813V

88. Ghotai Sayed, Boston, Massachusetts, Court of Federal Claims No: 23-1815V

89. Lynda Cottrell, Roswell, Georgia, Court of Federal Claims No: 23-1816V

90. Enoch Agnew, Boscobel, Wisconsin, Court of Federal Claims No: 23-1818V

91. James Southard, Oviedo, Florida, Court of Federal Claims No: 23-1822V

92. Eric Romo, Boston, Massachusetts, Court of Federal Claims No: 23-1825V

93. Jo Ann Banes, Flowood, Mississippi, Court of Federal Claims No: 23-1828V

94. Carol Amick, Lexington, South Carolina, Court of Federal Claims No: 23-1831V

95. Caroline Horochak, Phoenix, Arizona, Court of Federal Claims No: 23-1832V

96. Armand Regateiro, Boston, Massachusetts, Court of Federal Claims No: 23-1835V

97. Samantha Tersigni, Whitehall, Pennsylvania, Court of Federal Claims No: 23-1836V

98. Vincent Cosey, Boscobel, Wisconsin, Court of Federal Claims No: 23-1837V

99. Ishmael Torres, Pasadena, California, Court of Federal Claims No: 23-1838V

100. Chloe Baisden, Leesburg, Florida, Court of Federal Claims No: 23-1839V

101. David Wapner, Brooklyn, New York, Court of Federal Claims No: 23-1841V

102. Melissa Heffington on behalf of L. A., Tampa, Florida, Court of Federal Claims No: 23-1843V

103. Meshell Miller, Summerville, South Carolina, Court of Federal Claims No: 23-1845V

104. Micah J. Becchio, Santa Barbara, California, Court of Federal Claims No: 23-1846V

105. Sabrina Moore, Houston, Texas, Court of Federal Claims No: 23-1847V

106. Beverly Lefnesky, Eynon, Pennsylvania, Court of Federal Claims No: 23-1850V

107. Katherine L. Wickstrom, Somerville, Massachusetts, Court of Federal Claims No: 23-1851V

108. Joni Boone, Dresher, Pennsylvania, Court of Federal Claims No: 23-1852V

109. Aja Wright, Jupiter, Florida, Court of Federal Claims No: 23-1853V

110. Casey Crowhurst, Monticello, Illinois, Court of Federal Claims No: 23-1856V

111. April Lumpkin, Kingfisher, Oklahoma, Court of Federal Claims No: 23-1857V

112. Mildred Shea, Bay Village, Ohio, Court of Federal Claims No: 23-1858V

113. Scottie Unruh on behalf of S. U., Greensboro, North Carolina, Court of Federal Claims No: 23-1859V

114. Vincent Tuccillo, Manalapan, New Jersey, Court of Federal Claims No: 23-1860V

115. Patricia Lord, Boston, Massachusetts, Court of Federal Claims No: 23-1861V

116. Gigi DelMarcelle, Green Bay, Wisconsin, Court of Federal Claims No: 23-1862V

117. Amira Sabr, Kearny, New Jersey, Court of Federal Claims No: 23-1864V

118. Brenda Cohu, Olathe, Kansas, Court of Federal Claims No: 23-1865V

119. Sandra Rivera, Port Chester, New York, Court of Federal Claims No: 23-1867V

120. Rebecca Diaz, Miami, Florida, Court of Federal Claims No: 23-1868V

121. Keisha L. Stephens, Fort Gordon, Georgia, Court of Federal Claims No: 23-1869V

122. Jigna Panchal, San Francisco, California, Court of Federal Claims No: 23-1870V

123. Patricia Dietrich, Bismarck, North Dakota, Court of Federal Claims No: 23-1871V

124. Carolyn Cummins, Kerrville, Texas, Court of Federal Claims No: 23-1872V

125. Eman Hegazy, St. Paul, Minnesota, Court of Federal Claims No: 23-1873V

126. Roy E. Conrad, Weston, West Virginia, Court of Federal Claims No: 23-1877V

127. Enrique Martinez, Denver, Colorado, Court of Federal Claims No: 23-1878V

128. Jennifer Wagner on behalf of Sean Richard Crecelius, Deceased, Colorado Springs, Colorado, Court of Federal Claims No: 23-1879V

129. Shawna Huhn-Seto, Evanston, Illinois, Court of Federal Claims No: 23-1880V

130. James Novekoff, Elgin, Illinois, Court of Federal Claims No: 23-1881V

131. Raffaela Vacca, Manalapan, New Jersey, Court of Federal Claims No: 23-1883V

132. Camille Ashcraft, Salt Lake City, Utah, Court of Federal Claims No: 23-1885V

133. Kristen Nelson, Los Angeles, California, Court of Federal Claims No: 23-1886V

134. Jeremy Bruce, Issaquah, Washington, Court of Federal Claims No: 23-1887V

135. Wenfei Kang, New York, New York, Court of Federal Claims No: 23-1889V

136. Luis Vega Batista, Yuma, Arizona, Court of Federal Claims No: 23-1890V

137. David Garrison, League City, Texas, Court of Federal Claims No: 23-1893V

138. Jay Fassbender, Mobile, Alabama, Court of Federal Claims No: 23-1894V

139. Kate Borizov on behalf of S. B. Los Angeles, California, Court of Federal Claims No: 23-1895V

140. Regina Parks on behalf of L. S. Plaquemine, Louisiana, Court of Federal Claims No: 23-1899V

141. John Kreger, Dresher, Pennsylvania, Court of Federal Claims No: 23-1902V

142. Nancy Ann Leslie, Fort Myers, Florida, Court of Federal Claims No: 23-1903V

143. Kristina Bokova, Dresher, Pennsylvania, Court of Federal Claims No: 23-1904V

144. Kermit Nelson, New Port Richey, Florida, Court of Federal Claims No: 23-1905V

145. Robert Horne, Miami, Florida, Court of Federal Claims No: 23-1906V

146. Clare Archer, Santa Monica, California, Court of Federal Claims No: 23-1907V

147. Jeffery N. Burkhart, Dover, Tennessee, Court of Federal Claims No: 23-1908V

148. Christina Federline on behalf of J. F., Los Angeles, California, Court of Federal Claims No: 23-1909V

149. Jerry Garland, Florence, Alabama, Court of Federal Claims No: 23-1910V

150. Amir J. Khan, Boscobel, Wisconsin, Court of Federal Claims No: 23-1911V

151. Charlene Rismann, Waterford, Michigan, Court of Federal Claims No: 23-1912V

152. Anam Mulumba, Fort Worth, Texas, Court of Federal Claims No: 23-1913V

153. Beverly Barnhart, Beavercreek, Ohio, Court of Federal Claims No: 23-1916V

154. John J. Schramm, III, Levittown, Pennsylvania, Court of Federal Claims No: 23-1921V

155. Blessing Maduagwu, Whittier, California, Court of Federal Claims No: 23-1923V

156. Phyllis Chang, San Ramon, California, Court of Federal Claims No: 23-1924V

157. Katherine M. Helton, Los Angeles, California, Court of Federal Claims No: 23-1926V

158. Yasmin Hines, Los Angeles, California, Court of Federal Claims No: 23-1927V

[FR Doc. 2023-27392 Filed 12-13-23; 8:45 am]

BILLING CODE 4165-15-P